DEPARTMENT OF HOMELAND SECURITY

Coast Guard

33 CFR Part 165

[Docket No. USCG-2019-0362]

Safety Zones; Fireworks Displays in the Fifth Coast Guard District

AGENCY: Coast Guard, DHS.

ACTION: Notice of enforcement of regulation.

SUMMARY: The Coast Guard will enforce the Barnegat Bay, Ocean Township, NJ, safety zone from 9:00 p.m. through 10:00 p.m. on May 25, 2019. This action is necessary to ensure safety of life on the navigable waters of the United States immediately prior to, during, and immediately after the fireworks displays. Our regulation for safety zones of fireworks displays in the Fifth Coast Guard District identifies the regulated area for this event on Barnegat Bay in Ocean Township, NJ. During the enforcement period, vessels may not enter, remain in, or transit through the safety zone unless authorized by the Captain of the Port or designated Coast Guard patrol personnel on scene.

DATES: The regulations in the table to 33 CFR 165.506 at (a)(12) will be enforced from 9:00 p.m. through 10:00 p.m. on May 25, 2019.

FOR FURTHER INFORMATION CONTACT: If you have questions about this notice of enforcement, you may call or email Petty Officer Thomas Welker, U.S. Coast Guard, Sector Delaware Bay, Waterways Management Division, telephone 215-271-4814, email Thomas.J.Welker@uscg.mil.

SUPPLEMENTARY INFORMATION: The Coast Guard will enforce the safety zone in the Table to 33 CFR 165.506, entry (a)(12) for the Ocean Township Memorial Day Fireworks display from 9:00 p.m. through 10:00 p.m. on May 25, 2019. This action is necessary to ensure safety of life on the navigable waters of the United States immediately prior to, during, and immediately after the fireworks displays. Our regulation for safety zones of fireworks displays within the Fifth Coast Guard District, table to § 165.506, entry (a)(12), specifies the location of the regulated area as all waters of Barnegat Bay in Ocean Township, NJ, within 500 yards of a fireworks barge launch site at approximate position latitude 39°47′33″ N, longitude 074°10′46″ W. During the enforcement period, as reflected in § 165.506(d), vessels may not enter, remain in, or transit through the safety zone during the enforcement period unless authorized by the Captain of the Port or designated Coast Guard patrol personnel on scene.

In addition to this notice of enforcement in the Federal Register, the Coast Guard will provide notification of this enforcement period via broadcast notice to mariners.

Dated: May 10, 2019.
Scott E. Anderson,
Captain, U.S. Coast Guard, Captain of the Port, Delaware Bay.

[FR Doc. 2019-10033 Filed 5-14-19; 8:45 am]

BILLING CODE 9110-04-P